DEPARTMENT OF THE INTERIOR

National Park Service

[N6572; NPS-WASO-NAGPRA-NPS0041249; PPWOCRADN0-PCU00RP14.R50000]

Notice of Inventory Completion: U.S. Army Corps of Engineers, San Francisco District, San Francisco, CA

AGENCY: National Park Service, Interior.

ACTION: Notice.

SUMMARY: In accordance with the Native American Graves Protection and Repatriation Act (NAGPRA), the U.S. Army Corps of Engineers, San Francisco District has completed an inventory of human remains and associated funerary objects and has determined that there is a cultural affiliation between the human remains and associated funerary objects and Indian Tribes or Native Hawaiian organizations in this notice.

DATES: Repatriation of the human remains and associated funerary objects in this notice may occur on or after December 17, 2025.

ADDRESSES: Send written requests for repatriation of the human remains and associated funerary objects in this notice to Dr. Stephanie Bergman Sahinoglu, Cultural Resources Lead, U.S. Army Corps of Engineers, San Francisco District, 450 Golden Gate Avenue, 4th Floor, San Francisco, CA 94102, email stephanie.m.bergman@usace.army.mil.

SUPPLEMENTARY INFORMATION: This notice is published as part of the National Park Service's administrative responsibilities under NAGPRA. The determinations in this notice are the sole responsibility of the U.S. Army Corps of Engineers, San Francisco District, and additional information on the determinations in this notice, including the results of consultation, can be found in its inventory or related records. The National Park Service is not responsible for the determinations in this notice.

Abstract of Information Available

Human remains representing, at least, one individual were removed from CA-SON-544 (Serene Flat Site) in Sonoma County, California in 1979. The 1,655 associated funerary objects are: 155 pieces plus nine lots of chert debitage, 14 chert flakes, 19 chert pieces, three chert projectile points, five chert tools, 14 column samples, 421 fragments plus seven lots faunal remains (16 fragments have not yet been located), two pieces of groundstone, 405 pieces plus four lots of lithic debitage, four pieces of mixed metal and glass, two metal nails, 485 pieces plus 14 lots of obsidian debitage, 13 obsidian flakes (eight obsidian flakes have not yet been located), two obsidian pieces, one obsidian projectile point, one piece of polished bone, eight projectile points, 50 pieces plus two lots of quartz, 11 pieces of shell, and two individual samples plus two lots of soil samples. Site CA-SON-544 is a multi-component site dating from the Dry Creek Phase (500 B.C.—A.D. 1500) through the Smith Phase (A.D. 1300—historic contact).

A total of 326 associated funerary objects were removed from CA-SON-547 (Broken Bridge Site) in Sonoma County, California in 1979. The 326 associated funerary objects are: two botanic samples, two samples plus nine lots of charcoal samples, three pieces of chert, three chert cores, 113 pieces of chert debitage, six individual flakes plus seven lots of chert flakes, four chert projectile points, 12 chert tools, 39 fragments plus three lots of faunal remains, two pieces of groundstone, one lithic core, 24 pieces of lithic debitage, 12 individual plus two lots of lithic flake tools, 10 lithic tools, four pieces of metal, five pieces of obsidian debitage, 11 individual plus seven lots of obsidian flakes, 10 obsidian pieces, four obsidian projectile points, one obsidian tool, one piece of ochre, one lot of quartz cores and flakes, three pieces of quartz debitage, 22 individual plus one lot of quartz flakes, one lot of rock, and one piece of shell. Site CA-SON-547 was a well-developed midden site and dates from the Skaggs Phase (3000-500 B.C.) through the Smith Phase (A.D. 1300—historic contact).

A total of 74 associated funerary objects were removed from site CA-SON-553 (Double Black-Dirt Delta Site) in Sonoma County, California in 1979. The 74 associated funerary objects include: two charcoal samples, two pieces of chert, 32 pieces of chert debitage, one chert flake, two chert tools, 27 faunal remains, one piece of obsidian, six pieces of obsidian debitage, and one obsidian projectile point. Site CA-SON-553 was a midden site and dates to the Smith Phase (A.D. 1300—historic contact).

Human remains representing, at least, one individual were removed from CA-SON-568 (Smiley Site) in Sonoma County, California in 1979. The 3,834 associated funerary objects are: six botanical samples, five charcoal samples (one sample has not yet been located), one lot of clam shell disc beads, 228 faunal remains, 36 glass and ceramic beads (these beads have not yet been located), 3,554 glass beads (these beads have not yet been located), and four pieces of obsidian debitage. Site CA-SON-568 was described as containing housepits and middens and dates to the Smith Phase (A.D. 1300—historic contact).

Human remains representing, at least, one individual were removed from CA-SON-572 (Banded Rock Pool Site) in Sonoma County, California in 1979. The 1,207 associated funerary objects are: 20 charcoal samples, three pieces of chert, one chert biface, five chert cores (one core has not yet been located), 764 pieces plus 27 lots of chert debitage (109 pieces have not yet been located), six chert flakes, two lots of chert shatter, five chert tools, 42 fragments plus 19 lots of faunal remains, six pieces of groundstone, three lithic cores, eight pieces plus 12 lots of lithic debitage, one lithic flake, three lithic tools, five pieces of obsidian, 219 pieces plus 17 lots of obsidian debitage (15 pieces have not yet been located), 22 obsidian flakes, one obsidian projectile point, three obsidian tools (one tool has not yet been located), eight pieces of ochre, two individual plus two lots of soil samples, and one cooking stone. Site CA-SON-572 was a midden site dating from the Skaggs Phase (2500-500 B.C.) through the Smith Phase (A.D. 1300—historic contact).

Human remains representing, at least, one individual were removed from CA-SON-576 (Sheep Shearing Site) in Sonoma County, California in 1981. The 354 associated funerary objects are: three botanic samples, 19 individual samples plus two lots of charcoal, three chert cores, 147 pieces plus 16 lots of chert debitage, one chert flake, 53 fragments plus 18 lots of faunal remains, one lot of flotation samples, five pieces of obsidian, 57 pieces plus 15 lots of obsidian debitage, one obsidian projectile point, three obsidian tools, one piece of quartz debitage, one rock, and four individual plus four lots of soil samples. Site CA-SON-576 dates from the Dry Creek Phase (500 B.C.—A.D. 1500) through Smith Phase (A.D. 1300—historic contact).

Human remains representing, at least, two individuals were removed from CA-SON-593I (Treganza Sites 3 and 4) in Sonoma County, California in 1980 and 1981. The 203 associated funerary objects are: two individual and seven lots of charcoal samples, 19 pieces plus four lots of chert debitage, three chert flakes, one chert tool, 111 fragments plus 10 lots of faunal remains, one piece of groundstone, nine pieces plus five lots of obsidian debitage, 12 obsidian flakes, two obsidian projectile points, one obsidian tool, one piece of ochre, two quartz tools, and 11 fragments plus two lots of shell. Site CA-SON-593I has been described as a large village site and dates to the Smith Phase (A.D. 1300—historic contact).

A total of 218 associated funerary objects were removed from site CA-SON-597 (Treganza 7 Site) in Sonoma County, California in 1975. The 218 associated funerary objects include: one .22 caliber bullet, four charcoal samples, three chert and obsidian flakes, 78 pieces plus nine lots of chert debitage, one chert flake, 37 faunal remains, seven lots of floatation samples, 71 pieces plus four lots of obsidian debitage, one obsidian flake, one obsidian projectile point, and one quartz flake. Site CA-SON-597 has been dated to the Smith Phase (A.D. 1300—historic contact).

Cultural Affiliation

Based on the information available and the results of consultation, cultural affiliation is clearly identified by the information available about the human remains and associated funerary objects described in this notice.

Determinations

The U.S. Army Corps of Engineers, San Francisco District has determined that:

• The human remains described in this notice represent the physical remains of six individuals of Native American ancestry.

• The 7,871 objects described in this notice are reasonably believed to have been placed intentionally with or near individual human remains at the time of death or later as part of the death rite or ceremony.

• There is a connection between the human remains and associated funerary objects described in this notice and the Cloverdale Rancheria of Pomo Indians of California; Dry Creek Rancheria Band of Pomo Indians, California; and the Kashia Band of Pomo Indians of the Stewarts Point Rancheria, California.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after December 17, 2025. If competing requests for repatriation are received, the U.S. Army Corps of Engineers, San Francisco District must determine the most appropriate requestor prior to repatriation. Requests for joint repatriation of the human remains and associated funerary objects are considered a single request and not competing requests. The U.S. Army Corps of Engineers, San Francisco District is responsible for sending a copy of this notice to the Indian Tribes and Native Hawaiian organizations identified in this notice and any other consulting parties.

Authority: Native American Graves Protection and Repatriation Act, 25 U.S.C. 3003, and the implementing regulations, 43 CFR 10.10.

Dated: September 25, 2025.
Melanie O'Brien,
Manager, National NAGPRA Program.

[FR Doc. 2025-19966 Filed 11-14-25; 8:45 am]

BILLING CODE 4312-52-P